DEPARTMENT OF HEALTH AND HUMAN SERVICES

Administration for Community Living

[OMB#0985-XXXX]

Agency Information Collection Activities; Submission for OMB Review; Public Comment Request; Adult Protective Services Client Outcome Study

AGENCY: Administration for Community Living, HHS.

ACTION: Notice.

SUMMARY: The Administration for Community Living is announcing that the proposed collection of information listed above has been submitted to the Office of Management and Budget (OMB) for review and clearance as required under the Paperwork Reduction Act of 1995. This 30-Day notice collects comments on the information collection requirements related to the “Adult Protective Services Client Outcome Study” (New Data Collection [ICR New]).

DATES: Comments on the collection of information must be submitted electronically by 11:59 p.m. (EST) or postmarked by January 3, 2020.

ADDRESSES: Submit written comments on the collection of information by:

(a) email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Stephanie Whittier Eliason, Administration for Community Living, Washington, DC 20201, (202) 795-7467, Stephanie.WhittierEliason@acl.hhs.gov.

SUPPLEMENTARY INFORMATION: In compliance with 44 U.S.C. 3507, ACL has submitted the following proposed collection of information to OMB for review and clearance.

APS programs are provided by state and local governments nationwide and serve older adults and adults with disabilities in need of assistance due to maltreatment, which can include: Physical, emotional, and sexual abuse; financial exploitation; neglect; and self-neglect. APS is an important avenue through which maltreatment is reported to law enforcement or other agencies.

Additionally, APS programs are often the gateway for adults who experience maltreatment to access additional community, social, health, behavioral health, and legal services to maintain independence in the settings in which they prefer to live. APS programs work closely with clients and a wide variety of allied professionals to maximize safety and independence, while respecting each client's right to self-determination. At this time, there is no single funding stream for APS nor a single set of rules and regulations that APS programs must follow. Building the evidence-base for APS programs and practices, promoting the use of evidence-based and promising practices, and developing guiding standards are key needs for the APS field.

The proposed new data collection will examine if and how APS programs make a difference in the lives of APS clients. Specifically, the data collection will help examine (1) what changes clients report as a result of receiving APS services; (2) how satisfied clients are with the APS services they receive; (3) to what extent clients report APS helps them achieve their goals; (4) to what extent clients report APS supports their right to self-determination; (5) to what extent APS programs affect client safety (risk of maltreatment); (6) how APS program intervene to reduce client risk of maltreatment; (7) what factors help or hinder APS efforts to reduce risk of maltreatment; (8) to what extent APS programs affect client well-being (e.g., quality of life, financial, physical health, etc.); (9) how APS programs intervene to improve client-well-being; and (10) what factors help or hinder APS efforts to improve client well-being. The data collection will be conducted with three target populations: (1) APS clients, (2) APS caseworkers, and (3) APS leaders. APS leaders will consist of APS state and APS county leaders.

Data collection with these three target populations will include: A brief, anonymous APS client questionnaire, including a de-identified client data form; a semi-structured in-person interview with APS clients; a semi-structured in-person focus group with APS caseworkers; and a semi-structured interview with APS leaders.

The APS client questionnaire is designed to be as brief as possible, while examining key client outcome areas, identified in collaboration with a national expert panel consisting of federal experts, researchers, practitioners, and program leaders in APS. The outcomes areas focus on: Satisfaction with APS, safety, and well-being, and will be assessed with nine questions. The question statements examining these areas are designed to be short and easy to understand. The first item on the questionnaire provides a simple “yes/no” response option. For the remaining questions, APS clients or a proxy (respondents) are asked to rate the extent which they agree with each statement using a Likert-type rating scale ranging from `strongly disagree' to `strongly agree'. Respondents also have the option of sharing anything else about their experience with APS through an open-ended question at the end of the form. The questionnaire will be hand-delivered to the client or proxy respondent by the APS caseworker at case closure. The respondent will complete the questionnaire and mail it back to the research team by using a prepaid return envelope.

The client data form will be linked to the client questionnaire using a pre-populated eight-digit form number. The client data form is designed to capture de-identified, basic demographic information and additional details about APS clients and their cases.

These data points are expected to be among the information about clients, and their cases, that caseworkers already collect during normal APS processes. The form does not collect any personally identifiable information. The form will be completed online by APS caseworkers. If an APS program prefers another method of completing the form, hard copies can be provided and mailed back to the research team using a prepaid return envelope.

Individual interviews with APS clients are designed to gain more in-depth knowledge about the experiences and needs of APS clients along the key outcome areas assessed in the questionnaire. A standardized, semi-structured interview guide will be used to guide the interviews with clients who provide informed consent.

Focus groups with APS caseworkers will be conducted in person, using a standardized, semi-structured focus group guide. Individual interviews with APS leaders will be conducted either in-person or by phone with county and state leaders using a standardized, semi-structured, interview guide. Similar to client interviews, focus groups with APS caseworkers and interviews with APS leaders will focus on the identified outcome areas. Additional questions will be asked to gain insight into access and availability of services, collaboration and partnerships with other entities in the community, and barriers and facilitating factors that affect APS services and client outcomes. The interview guide for APS leaders also contains questions related to APS policies and procedures.

Comments in Response to the 60-Day Federal Register Notice

A notice was published in the Federal Register on August 20, 2019 (Vol. 84, Number 161; pp. 43137-43139). ACL received a total of three comments in response to the notice. None of the comments raised significant concerns about the proposed collection of information. The following table lists each comment, by data collection tool, and provides ACL's response.

Data collection tool(s) | Comment | ACL response
Client Data Form | The status at closing should include an additional option: Services knowingly refused by competent adult | The level of client engagement item is designed to capture this information. However, the item wording should specify engagement with APS, including the investigation and services (specified separately). Competency can be determined using the respondent type item. The following changes are proposed: (1) Revise the item to read: “Level of Client Engagement with APS:“; (2) Create table (similar to the item for type of maltreatment) or other revised formatting to capture level of client engagement with two separate aspects of APS: (a) the investigation, (b) services. No revisions are proposed to the response options for this item.
Client Data Form | The above initiative will be of great benefit to the field of APS. Thank you for undertaking much needed work. Your approach is sound and we look forward to the results of this work. My comment regarding APS is of a broad general nature. What is an APS client in the USA? There is no unified definition on what is a person that needs APS services. Most states use a definition that includes a vulnerability. The person is 18+ and due to a permanent physical or mental disability is unable to provide for his or her own care and protection. However, many states (10 to 12 I believe) have an age demarcation on what is an APS client. Anyone 60+ or 65+ is an automatic client. This is misleading. As you know, ⅔ of the members of congress are over 60 or 65, not to mention our president and many of the democrats running for the presidency. Are those states telling us that just because you are 60 you cannot protect or provide for yourself and you need APS services? These states have laws that go back decades and they have not been updated. This creates an inconsistency in national data on abuse, neglect, exploitation a true vulnerable APS client. APS needs to focus on folks who are vulnerable. Not folks who happen to be 60+ and are caught in the pool. The US needs a consistent definition of what is an APS client so that the data can be more meaningful | ACL recognizes that APS programs vary in terms of the criteria used to determine eligibility to receive APS. ACL further believes that this information is meaningful to the study. The following change is proposed: (1) Add new item to the client data form: “How did the client qualify to receive APS services (check all that apply)?” with check boxes for two response options: “1) On the basis of old age”; “2) On the basis of disability/vulnerability/etc”.
Interview Guide APS Leaders; Focus Group Guide APS Caseworkers | Below are comments: • Applaud ACL for doing this study via a random sampling of clients, APS caseworkers and administrators at both the state and local level • Questions seek to validate if client autonomy and engagement is honored (i.e., client self-determination recognized by the APS investigator and the need for APS to balance Autonomy with Beneficence and Nonmaleficence.) • These surveys of clients, APS caseworkers and administrators ask open-ended, semi-structured questions around domains of client satisfaction, improved safety, and resource access, which is a nice approach | The APS leader interview guide and APS caseworker focus group guide include an item that very closely matches the recommendation in the comment. For example, the “Conclusion” section, item “A” of the APS leader interview guide reads: “If money and resources were unlimited, what would you change about [name of APS program] in order to do a better job of improving clients' lives?” This item extends the focus of the question beyond service delivery to client outcomes, which is of primary interest for this study.
| • Recommend one additional question for caseworkers and administrators, “If you had an unlimited budget, what would you give to APS to improve their services delivery?“ Good luck with this important work

The proposed data collection tools may be found on the ACL website for review at https://www.acl.gov/about-acl/public-input.

Estimated Program Burden

ACL estimates the burden associated with this collection of information as follows:

Respondent/data collection activity | Number of respondents | Responses per respondent | Hours per response | Annual burden hours
Client Questionnaire | 6,000 | 1 | 0.167 | 1,002
Client Data Form | 6,000 | 1 | 0.167 | 1,002
Client Interview | 24 | 1 | 0.75 | 18
APS Caseworker Focus Group | 84 | 1 | 1.5 | 126
APS Leaders Interview | 16 | 1 | 1 | 16
Total | 12,124 |  | 3.58 | 2,164

Dated: November 27, 2019.
Lance Robertson,
Administrator and Assistant Secretary for Aging.

[FR Doc. 2019-26182 Filed 12-3-19; 8:45 am]

BILLING CODE 4154-01-P